DEPARTMENT OF VETERANS AFFAIRS

Research Advisory Committee on Gulf War Veterans' Illnesses; Notice of Meeting

The Department of Veterans Affairs (VA) gives notice under the Federal Advisory Committee Act, 5 U.S.C., App. 2, that the Research Advisory Committee on Gulf War Veterans' Illnesses will meet on August 8-9, 2016, in the auditorium of Building 7 at the San Francisco VA Medical Center, 4150 Clement Street, San Francisco, CA, from 9:00 a.m. until 4:15 p.m. (Pacific) on August 8 and from 8:30 a.m. to 1:00 p.m. on August 9. All sessions will be open to the public, and for interested parties who cannot attend in person, there is a toll-free telephone number (800) 767-1750; access code 56978#.

The purpose of the Committee is to provide advice and make recommendations to the Secretary of Veterans Affairs on proposed research studies, research plans, and research strategies relating to the health consequences of military service in the Southwest Asia theater of operations during the Gulf War in 1990-1991.

The Committee will review VA program activities related to Gulf War Veterans' illnesses, and updates on relevant scientific research published since the last Committee meeting. Presentations will include updates on the VA Gulf War Research Program, along with presentations describing new areas of research that can be applied to the health problems of Gulf War Veterans. Also, there will be a discussion of Committee business and activities.

The meeting will include time reserved for public comments each afternoon. A sign-up sheet for 5-minute comments will be available at the meeting. Individuals who wish to address the Committee may submit a 1-2 page summary of their comments for inclusion in the official meeting record. Members of the public may also submit written statements for the Committee's review to Dr. Victor Kalasinsky via email at Victor.Kalasinsky@va.gov. Any member of the public seeking additional information should contact Dr. Kalasinsky, Designated Federal Officer, at (202) 443-5600.

Dated: July 1, 2016.
Jelessa Burney,
Federal Advisory Committee Management Officer.

[FR Doc. 2016-16115 Filed 7-6-16; 8:45 am]

BILLING CODE P